DEPARTMENT OF ENERGY

Federal Energy Regulatory Commission

Notice of Intent To File an Application for a New License

April 22, 2003.

a. Type of Filing: Notice of intent to file an application for a new license.

b. Project No.: 925.

c. Date Filed: April 14, 2003.

d. Submitted By: City of Ottumwa, Iowa—current licensee.

e. Name of Project: Ottumwa Hydroelectric Project.

f. Location: On the Des Moines River in Wapello County, Iowa. The project does not occupy federal lands.

g. Filed Pursuant to: Section 15 of the Federal Power Act.

h. Licensee Contact: Martin J. Weber, Stanley Consultants, Inc., 5775 Wayzata Blvd., Suite 955, Minneapolis, MN 55416, webermartin@stanleygroup.com, (952) 797-5386.

i. FERC Contact: Jack Duckworth, jack.duckworth@ferc.gov, (202) 502-6392.

j. Effective date of current license: March 1, 1982.

k. Expiration date of current license: April 30, 2008.

l. Description of the Project: The project consists of the following existing facilities: (1) A 18-foot-high, 766-foot-long dam with a gated spillway; (2) a 500-acre reservoir; (3) a powerhouse integral to the dam containing a generating unit with an installed capacity of 3.25 MW; and (4) other appurtenances.

m. Each application for a new license and any competing license applications must be filed with the Commission at least 24 months prior to the expiration of the existing license. All applications for license for this project must be filed by April 30, 2006.

n. A copy of this filing is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1 (866) 208-3676, or TTY (202) 502-8659. A copy is also available for inspection and reproduction at the address in item h above.

Register online at http://www.ferc.gov/esubscribenow.htm to be notified via email of new filings and issuances related to this or other pending projects. For assistance, contact FERC Online Support as shown in the paragraph above.

Magalie R. Salas,
Secretary.

[FR Doc. 03-10466 Filed 4-28-03; 8:45 am]

BILLING CODE 6717-01-P